DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of August, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,632, A,B,C; JPS Apparel Fabrics Corp., Greenville, SC, South Boston, VA, New York, NY and Laurens, SC

TA-W-39,197; Alken Ziegler Novi L.L.C., Novi, MI

TA-W-38,653; TRW Automotive Electronic Group, Auburn, NY

TA-W-38,380; Spinmaker Coating Maine, Inc., Westbrook, ME

TA-W-39,036; Nooter Fabricators, Inc., St. Louis, MO

TA-W-39-002; Ohio Moulding Corp., Wickliffe, OH

In the following cases, the investigation revealed that the criteria for eligibility have not been met for the reasons specified.

Increased imports did not contribute importantly to worker separations at the firm.

TA-W-39,551; Rohm and Haas, Speciality Chemical Div., Patterson, NJ

TA-W-39,559; Delong Sportswear, Inc., Mt. Jefferson Woolens Div., Jefferson, OR

TA-W-39,278; Honeywell International, Inc., Consumer Products Group, Nevada, MO

TA-W-39,706; Thermo King Corp., Div. of Ingersoll Rand, Bloomington, MN

TA-W-38,862; Pacific Tube Co., Los Angeles, CA

TA-W-39,388; Carolina Mills, Inc., Lincolnton, NC

TA-W-38,940 & A; Mayfair Mills, Ind., Lincolnton Plant, Lincolnton, GA and Starr Plant, Starr, SC

The investigation revealed that criteria (2) has not been met. Sales or production did not decline during the relevant period as required for certification.

TA-W-39,385, AMI Semiconductor, Inc., Pocatello, ID

Affirmative Determinations for Worker Adjustment Assistance

The following certifications have been issued; the date following the company name and location of each determination references the impact date for all workers of such determination.

TA-W-39,730; Neles Automation USA, Inc., Houston Delivery Center, Houston, TX: July 13, 2000.

TA-W-38,895; P.J.K., Inc., Vernon, CA: March 9, 2000.

TA-W-39,061; SOLA Optical USA, Petaluma, CA: March 30, 2000.

TA-W-39,379; Savannah Luggage Works, Vidalia, GA: May 14, 2000.

TA-W-38,940B & C, D, E; Mayfair Mills, Inc., Mayfair Plant, Arcadia, SC, Bailey Plant, Arcadia, SC, Glenwood Plant, Easley, SC and Pickens Plant, Pickens, SC: March 19, 2000.

TA-W-39,756; Kimberly Clark, Conway, AR: July 24, 2000.

TA-W-39,596; Quilt Gallery, Easley, SC: June 20, 2000.

TA-W-39,494; Empire Wood Carving Co., Inc., Chicago, IL: June 1, 2000.

TA-W-39,817; AMI Doduco, Inc., Cedar Knolls, NJ: August 3, 2001.

TA-W-39,774; Meridian Beartrack Co., Formerly Beartrack Mine Meridian Gold, Salmon, ID: July 23, 2001.

TA-W-39,668; Hawley Products, Inc., Paducah, KY: July 5, 2000.

TA-W-39,550; Pasco Beverage Co., Pasco Processing LLC, Bartow, FL: June 15, 2000.

TA-W-39,754; Kellwood Co., Intimate Apparel Group, Fernwood, MS

TA-W-39,679; J and L Structural, Inc., Ambridge Div., Ambridge, PA: June 22, 2000.

TA-W-39,701 & A; Merry Maid Novelties, Bangor, PA and Tatamy, PA: July 13, 2000.

TA-W-39,295; Robinson Manufacturing Co., Pikesville, TN: May 1, 2000.

TA-W-39,224; Centis, Inc., Brea, CA: April 25, 2000.

TA-W-38,913; Littelfuse, Inc., Centralia, IL: March 11, 2000.

TA-W-39,377; Niagara Falls Bakery, Nabisco Biscuit Div., Kraft Foods North America, Niagara Falls, NY: May 28, 2000.

TA-W-39,046; Deferiet Paper Co., Deferiet, NY: March 23, 2000.

TA-W-39,090; Strandflex, Div. of Maryland Specialty Wire, Inc., Oriskany, NY: April 4, 2000.

TA-W-39,585; Bike Athletic Co., Mountain City, TN: June 28, 2000.

TA-W-39,227; Roche Diagnostics Corp., Freemont, CA: April 16, 2000.

TA-W-39,705; Lincoln Automotive Co., Jonesboro, AR: July 15, 2001.

Also, pursuant to title V of the North American Free Trade Agreement Implementation Act (P.L. 103-182) concerning transitional adjustment assistance hereinafter called (NAFTA-TAA) and in accordance with section 250(a), subchapter D, chapter 2, title II, of the Trade Act as amended, the Department of Labor presents summaries of determinations regarding eligibility to apply for NAFTA-TAA issued during the month of August, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determination NAFTA-TAA

In each of the following cases the investigation revealed that criteria (3) and (4) were not met. Imports from Canada or Mexico did not contribute importantly to workers' separations. There was no shift in production from the subject firm to Canada or Mexico during the relevant period.

NAFTA-TAA-04729; Nooter Fabricators, Inc., St. Louis, MO

NAFTA-TAA-04842; Technimark, Inc., Asheboro, NC

NAFTA-TAA-05059 & A, B, C; JPS Apparel Fabrics Corp., Greenville, SC, South Boston, VA, New York, NY and Laurens, SC

NAFTA-TAA-05004; Delong Sportswear, Inc., Mt. Jefferson Woolens Div., Jefferson, OR

NAFTA-TAA-04700; Alken Ziegler Novi, L.L.C., Novi, MI

NAFTA-TAA-04502; TRW Automotive Electronics Group, Auburn, NY

NAFTA-TAA-05035; Excel Group, Inc., Murray, KY

NAFTA-TAA-04954; Agere Systems, Integrated Circuits and Optoelectronics Div., Reading, PA

NAFTA-TAA-04670A, NAFTA-TAA-04670C and NAFTA-TAA-04670D; Mayfair Mills, Inc., Mayfair Plant, Arcadia, SC, Bailey Plant, Arcadia, SC and Glenwood Plant, Easley, SC.

NAFTA-TAA-04955 & A; Agrere Systems, Integrated Circuits Div., Allentown, PA and Optoelectronics Div., Breinigsville, PA

NAFTA-TAA-05188; Cooper-Standard Automotive, Rock Mount, NC

The investigation revealed that criteria (2) has not been met. Sales or production did not decline during the relevant period as required for certification.

NAFTA-TAA05118; AMI Semiconductor, Inc., Pocatello, ID

Affirmative Determinations NAFTA-TAA

NAFTA-TAA-04670, NAFTA-TAA-04670B & NAFTA-TAA-04670E; Mayfair Mills, Inc., Starr Plant, Starr, SC, Lincolnton Plant, Lincolnton, GA and Pickens Plant, Pickens, SC: March 19, 2000.

NAFTA-TAA-05091; Technotrim, Maysville, KY: July 17, 2000.

NAFTA-TAA-04745; Deferiet Paper Co., Deferiet, NY: March 28, 2000.

NAFTA-TAA-05009; Quaker Oats Co., St. Joseph, MO: May 2, 2000.

NAFTA-TAA-04867; GE Harris Harmon Railway Technology, Jacksonville, FL: March 7, 2000.

NAFTA-TAA-05101; Niagara Falls Bakery, Nabisco Biscuit Div., Kraft Foods North America, Niagara Falls, NY: June 13, 2000.

NAFTA-TAA-05092; Parker Hannifin Corp., Pneumatic Div., North America, Wake Forest, NC: July 19, 2000.

NAFTA-TAA-05040; Sheldahl, Inc., Flexible Interconnect Div., Britton, SD: June 22, 2000.

NAFTA-TAA-04743; SMTC Manufacturing, Thornton, CO: April 6, 2000.

NAFTA-TAA-04653; P.J.K., Inc., Vernon, CA: March 8, 2000.

I hereby certify that the aforementioned determinations were issued during the month of August, 2001. Copies of these determinations are available for inspection in Room C-5311, U.S. Department of Labor, 200 Constitution Avenue, NW., Washington, DC 20210 during normal business hours or will be mailed to persons who write to the above address.

Dated: August 27, 2001.
Edward A. Tomchick,
Director, Division of Trade Adjustment Assistance.

[FR Doc. 01-22691 Filed 9-10-01; 8:45 am]

BILLING CODE 4510-30-M